DEPARTMENT OF HEALTH AND HUMAN SERVICES

Administration for Children and Families

Proposed Information Collection Activity; Tribal Child Support Enforcement Direct Funding Request: (Office of Management and Budget #0970-0218)

AGENCY: Office of Child Support Services, Administration for Children and Families, United States Department of Health and Human Services.

ACTION: Request for public comments.

SUMMARY: The Office of Child Support Services (OCSS), Administration for Children and Families (ACF) is requesting proposed revisions to an approved information collection the Tribal Child Support Enforcement Direct Funding Requests—(Office of Management and Budget (OMB) #0970-0218, expiration March 31, 2026). We are proposing a new requirement for tribes or tribal organizations to provide that charging fees and recovering costs will not be permitted.

DATES: Comments due within 60 days of publication. In compliance with the requirements of the Paperwork Reduction Act (PRA) of 1995, ACF is soliciting public comment on the specific aspects of the information collection described above.

ADDRESSES: You can obtain copies of the proposed collection of information and submit comments by emailing infocollection@acf.hhs.gov. Identify all requests by the title of the information collection.

SUPPLEMENTARY INFORMATION: Description: The final rule within 45 CFR part 309, published in the Federal Register on March 30, 2004, contains a regulatory reporting requirement that, in order to receive funding for a tribal IV-D program, a tribe or tribal organization must submit a plan describing how the tribe or tribal organization meets or plans to meet the objectives of section 455(f) of the Social Security Act, including establishing paternity; establishing, modifying, and enforcing support orders; and locating noncustodial parents. The plan is required for all tribes requesting funding; however, once a tribe has met the requirements to operate a comprehensive program, a new plan is not required annually unless a tribe makes changes to its title IV-D program. If a tribe or tribal organization intends to make any substantial or material changes, a tribal IV-D plan amendment must be submitted for approval. Tribes and tribal organizations must have an approved plan and submit any required plan amendments to receive funding to operate a tribal IV-D program.

With this request to revise an approved information collection, OCSS proposes a new requirement for tribes and tribal organizations to provide that charging fees and recovering costs will not be permitted. This is due to the Elimination of the Non-Federal Share notice of proposed rulemaking published on April 21, 2023 (see 88 FR 24526). Tribes and tribal organizations that charge fees and recover costs must submit a plan amendment demonstrating compliance with the proposed new requirement, in accordance with 45 CFR 309.35(d). This notice invites comments on this proposed change and the related burden implications. This would be a onetime submission that would be implemented in conjunction with the issuing of a Final Rule. Only three tribal child support programs report data on the collection of fees and recovered costs.

Respondents: Tribes and tribal Organizations.

Burden Estimates

The following burden estimates are specific to burden associated with the proposed change in requirement. For information about currently approved burden under OMB #: 0970-0218, which is not expected to change, see information here: https://www.reginfo.gov/public/do/PRAViewICR?ref_nbr=202212-0970-012.

Instrument | Total number of respondents | Number of responses per respondent | Average burden hours per response | Total burden hours
45 CFR part 309—Plan Amendment—Charging fees and recovering costs | 3 | 1 | 3 | 9

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV-D of the Social Security Act; 45 CFR part 309.

Mary B. Jones,
ACF/OPRE Certifying Officer.

[FR Doc. 2023-22630 Filed 10-12-23; 8:45 am]

BILLING CODE 4184-41-P